ENVIRONMENTAL PROTECTION AGENCY

[FRL-9486-3]

National Advisory Council for Environmental Policy and Technology

AGENCY: Environmental Protection Agency (EPA).

ACTION: Notice of meeting.

SUMMARY: Under the Federal Advisory Committee Act, Public Law 92463, EPA gives notice of a public meeting of the National Advisory Council for Environmental Policy and Technology (NACEPT). NACEPT provides advice to the EPA Administrator on a broad range of environmental policy, technology, and management issues. NACEPT represents diverse interests from academia, industry, non-governmental organizations, and local, State, and tribal governments. The purpose of this meeting is to continue developing recommendations to the Administrator regarding actions that EPA can take to address critical issues surrounding Workforce Development, and actions the Agency can take to be more effective in serving the needs of Vulnerable Populations. The Council will also begin discussing recommendations to the Agency in response to the National Academy of Sciences Report on “Incorporating Sustainability in the U.S. Environmental Protection Agency”. A copy of the agenda for the meeting will be posted at http://www.epa.gov/ofacmo/nacept/cal-nacept.htm.

DATES: NACEPT will hold a two-day public meeting on Monday, November 14, 2011, from 8:30 a.m. to 5:30 p.m. and Tuesday, November 15, 2011, from 8:30 a.m. to 2 p.m.

ADDRESSES: The meeting will be held at the EPA Potomac Yard Conference Center, One Potomac Yard, 2777 S. Crystal Dr., Arlington, VA 22202.

FOR FURTHER INFORMATION CONTACT: Mark Joyce, Acting Designated Federal Officer, joyce.mark@epa.gov, (202) 564-2130, U.S. EPA, Office of Federal Advisory Committee Management and Outreach (1601M), 1200 Pennsylvania Avenue NW., Washington, DC 20460.

SUPPLEMENTARY INFORMATION: Requests to make oral comments or to provide written comments to NACEPT should be sent to Eugene Green at (202) 564-2432 or green.eugene@epa.gov by Monday, November 7, 2011. The meeting is open to the public, with limited seating on a first-come, first-served basis. Members of the public wishing to attend should contact Eugene Green at (202) 564-2432 or green.eugene@epa.gov by November 7, 2011.

Meeting Access: For information on access or services for individuals with disabilities, please contact Eugene Green at (202) 564-2432 or green.eugene@epa.gov. To request accommodation of a disability, please contact Eugene, preferably 10 days prior to the meeting, to give EPA as much time as possible to process your request.

Dated: October 24, 2011.
Mark Joyce,
Acting Designated Federal Officer.

[FR Doc. 2011-28523 Filed 11-2-11; 8:45 am]

BILLING CODE 6560-50-P